GENERAL SERVICES ADMINISTRATION

[OGP-05-N01]

Notification of Web Site Location for Annual Motor Vehicle Reports

AGENCY: Office of Governmentwide Policy, General Services Administration (GSA).

ACTION: Notice.

SUMMARY: Under the provisions of the Energy Policy Act of 1992, as amended, and the reporting obligations under 42 U.S.C. 13218(b), GSA hereby provides, for public review, access to annual reports covering motor vehicle acquisitions beginning with the year 1999. Each report details the fuel type, vehicle classification, and number of vehicles acquired in the covered fiscal year. These reports are accessible on the agency's web site located at http://www.gsa.gov/fleetreports.

FOR FURTHER INFORMATION CONTACT: Mr. John Hughes, Administrative Policy Division (MCA), GSA, by phone at (202) 501-2162, or by e-mail at john.hughes@gsa.gov.

Dated: May 16, 2005.
Ernest M. Stevens,
Director, Administrative Policy Division.

[FR Doc. 05-10021 Filed 5-18-05; 8:45 am]

BILLING CODE 6820-FM-S